DEPARTMENT OF COMMERCE

Foreign-Trade Zones Board

[Order No. 1650]

Reorganization/Expansion of Foreign-Trade Zone 15 Kansas City, MO

Pursuant to its authority under the Foreign-Trade Zones Act of June 18, 1934, as amended (19 U.S.C. 81a-81u), the Foreign-Trade Zones Board (the Board) adopts the following Order:

Whereas, the Greater Kansas City Foreign-Trade Zone, Inc., grantee of Foreign-Trade Zone 15, submitted an application to the Board for authority to reorganize and expand FTZ 15 in the Kansas City, area, within the Kansas City Customs and Border Protection port of entry (FTZ Docket 14-2009, filed 4/8/2009);

Whereas, notice inviting public comment has been given in the Federal Register (74 FR 17634-17635, 4/16/2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 15 is approved, subject to the FTZ Act and the Board's regulations, including Section 400.28, and to the Board's standard 2,000-acre activation limit for the overall general-purpose zone project, and further subject to a time limit that will terminate authority for Site 13 on October 31, 2014, subject to extension upon review.

Signed at Washington, DC, this 23rd day of October 2009.
Ronald K. Lorentzen,
Acting Assistant Secretary of Commerce for Import Administration Alternate Chairman, Foreign-Trade Zones Board.
Attest:
Andrew McGilvray,
Executive Secretary.

[FR Doc. E9-26934 Filed 11-6-09; 8:45 am]

BILLING CODE P